FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 24, 2021.

A. Federal Reserve Bank of Minneapolis (Chris P. Wangen, Assistant Vice President), 90 Hennepin Avenue, Minneapolis, Minnesota 55480-0291. Comments can also be sent electronically to MA@mpls.frb.org:

1. David R. Rounds, St. Louis Park, Minnesota, as trustee to the Gerald Rauenhorst 2004 Children's Trust u/a/d December 23, 2004, and the Grandchildren's Fidelity Trust u/a/d February 24, 2015, both of Minnetonka, Minnesota; to acquire voting shares of Fidelity Holding Company, Minnetonka, Minnesota, and thereby indirectly acquire voting shares of Fidelity Bank, Edina, Minnesota.

B. Federal Reserve Bank of Chicago (Colette A. Fried, Assistant Vice President) 230 South LaSalle Street, Chicago, Illinois 60690-1414:

1. Tamara S. Wagers, Mt. Zion, Illinois; the Arthur R. Wilkinson Trust, dated April 3, 2010, Arthur R. Wilkinson, as trustee, the Karen S. Wilkinson Trust, dated April 3, 2010, Karen S. Wilkinson, as trustee, and Michelle Wilkinson Gross, all of Bement, Illinois; and the George Mark Wilkinson Living Trust, dated April 24, 2009, George Mark Wilkinson, as trustee, both of Waikoloa, Hawaii; to form the Wilkinson Family Control Group, a group acting in concert, and The Ann Wilkinson Trust, Ann Wilkinson, individually, and as trustee, both of Mountain View, California; to retain voting shares of Bement Bancshares, Inc., and thereby indirectly retain voting shares of the State Bank of Bement, Bement, Illinois, and the State Bank of Cerro Gordo, Cerro Gordo, Illinois.

Board of Governors of the Federal Reserve System, December 6, 2021.
Michele Taylor Fennell,
Deputy Associate Secretary of the Board.

[FR Doc. 2021-26689 Filed 12-8-21; 8:45 am]

BILLING CODE P